DEPARTMENT OF THE INTERIOR

Office of Natural Resources Revenue

30 CFR Part 1218

Collection of Royalties, Rentals, Bonuses, and Other Monies Due the Federal Government

CFR Correction

In Title 30 of the Code of Federal Regulations, Part 700 to End, revised as of July 1, 2012, on page 873, in § 1218.51, in paragraph (a), the definition for RIK is removed.

[FR Doc. 2013-15693 Filed 6-27-13; 8:45 am]

BILLING CODE 1505-01-D